POSTAL REGULATORY COMMISSION

Facility Tour

AGENCY: Postal Regulatory Commission.

ACTION: Notice of Commission tour.

SUMMARY: On Thursday, March 27, 2008, Postal Regulatory Commissioners and advisory staff members will observe the Flats Sequencing System at the Postal Service's facility at Dulles Airport in Chantilly, Virginia.

DATES: March 27, 2008.

FOR FURTHER INFORMATION CONTACT: Ann C. Fisher, Chief of Staff, Postal Regulatory Commission, at 202-789-6803 or ann.fisher@prc.gov.

Steven W. Williams,
Secretary.

[FR Doc. E8-6187 Filed 3-25-08; 8:45 am]

BILLING CODE 7710-FW-P